DEPARTMENT OF ENERGY

10 CFR Parts 433 and 435

[EERE-2010-BT-STD-0031]

RIN 1904-AB96

Clean Energy for New Federal Buildings and Major Renovations of Federal Buildings; Reopening of Comment Period

AGENCY: Office of Energy Efficiency and Renewable Energy, Department of Energy.

ACTION: Supplemental notice of proposed rulemaking; reopening of public comment period.

SUMMARY: On December 21, 2022, the U.S. Department of Energy (DOE) published in the Federal Register a supplemental notice of proposed rulemaking and announcement of a public webinar regarding revised energy performance standards for the construction of new Federal buildings and Federal buildings undergoing major renovations. DOE has received multiple requests to extend the public comment period, has reviewed these requests, and is reopening the public comment period to allow comments to be submitted until March 23, 2023.

DATES: The comment period for the supplemental notice of proposed rulemaking published in the Federal Register on December 21, 2022 (87 FR 78382) is reopened until March 23, 2023. Written comments, data, and information are requested and will be accepted on and before March 23, 2023.

ADDRESSES: Interested persons are encouraged to submit comments using the Federal eRulemaking Portal at www.regulations.gov. Follow the instructions for submitting comments. Alternatively, interested persons may submit comments, identified by docket number EERE-2010-BT-STD-0031, by any of the following methods:

Federal eRulemaking Portal: www.regulations.gov. Follow the instructions for submitting comments.

Postal Mail: Appliance and Equipment Standards Program, U.S. Department of Energy, Building Technologies Office, Mailstop EE-5B, 1000 Independence Avenue SW, Washington, DC 20585-0121. Telephone: (202) 586-9138. If possible, please submit all items on a compact disc (“CD”), in which case it is not necessary to include printed copies.

Email: to FossilFuelReduct-2010-STD-0031@ee.doe.gov. Include docket number EERE-2010-BT-STD-0031 in the subject line of the message.

No telefacsimilies (“faxes”) will be accepted.

Docket: The docket for this activity, which includes Federal Register notices, comments, and other supporting documents/materials, is available for review at www.regulations.gov. All documents in the docket are listed in the www.regulations.gov index. However, some documents listed in the index, such as those containing information that is exempt from public disclosure, may not be publicly available.

The docket web pages can be found at: www.regulations.gov/docket/EERE-2010-BT-STD-0031. The docket web page contains instructions on how to access all documents, including public comments, in the docket.

FOR FURTHER INFORMATION CONTACT: Mr. Jeremy Williams, U.S. Department of Energy, Office of Energy Efficiency and Renewable Energy, Building Technologies Office, EE-5B, 1000 Independence Avenue SW, Washington, DC 20585-0121. Telephone: (202) 586-9138. Email: Jeremy.Williams@ee.doe.gov.

Mr. Matthew Ring, U.S. Department of Energy, Office of the General Counsel, GC-33, 1000 Independence Avenue SW, Washington, DC 20585-0121. Telephone: (202) 586-2555. Email: Matthew.Ring@hq.doe.gov.

SUPPLEMENTARY INFORMATION: On December 21, 2022, DOE published in the Federal Register a supplemental notice of proposed rulemaking (SNOPR) and announcement of public webinar regarding revised energy performance standards for the construction of new Federal buildings. DOE stated it would accept written comments, data, and information on the proposal until February 21, 2023. (87 FR 78382).

On January 17, 2023, DOE received a joint request from the Alliance to Save Energy, Business Council for Sustainable Energy, and the U.S. Green Building Council (USGBC), requesting a 30-day extension of the public comment period to allow more time to review the SNOPR and supportive material.¹ On January 27, 2023, DOE also received joint requests from the American Gas Association, American Public Gas Association, National Propane Gas Association, Plumbing-Heating-Cooling Contractors (National Association), and the U.S. Chamber of Commerce, requesting a 30-day extension to the public comment period.

¹ See https://www.regulations.gov/document/EERE-2010-BT-STD-0031-0073.

DOE has reviewed these requests and determined that reopening the public comment period is warranted to allow interested parties additional time to submit comments for DOE's consideration. Accordingly, DOE is reopening the comment period deadline to March 23, 2023. DOE believes this additional 30 days is sufficient.

Signing Authority

This document of the Department of Energy was signed on February 21, 2023, by Mary Sotos, Director of the Federal Energy Management Program, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on February 21, 2023.
Treena V. Garrett,
Federal Register Liaison Officer, U.S. Department of Energy.

[FR Doc. 2023-03908 Filed 2-24-23; 8:45 am]

BILLING CODE 6450-01-P